COMMITTEE FOR PURCHASE FROM PEOPLE WHO ARE BLIND OR SEVERELY DISABLED

Procurement List, Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

DATES: Comments Must Be Received On or Before: 9/16/2013.

ADDRESSES: Committee for Purchase From People Who Are Blind or Severely Disabled, 1401 S Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type/Location: Hospital Housekeeping Service, Bayne-Jones Army Community Hospital and Multiple Medical Treatment Facilities, 1585 3rd Street, Fort Polk, LA.

NPA: Enterprise Professional Services, Inc., Austin, TX.

Contracting Activity: DEPT OF THE ARMY, W40M USA MEDCOM HCAA, FORT SAM HOUSTON, TX.

Service Type/Location: Laundry Service, Federal Bureau of Prisons, FMC Carswell, J Street, Building 3000, Fort Worth, TX.

NPA: Goodwill Industrial Services of Fort Worth, Inc., Fort Worth, TX.

Contracting Activity: FEDERAL PRISON SYSTEM, CARSWELL, FMC, FORT WORTH, TX.

Barry S. Lineback,
Director, Business Operations.

[FR Doc. 2013-19943 Filed 8-15-13; 8:45 am]

BILLING CODE 6353-01-P